DEPARTMENT OF COMMERCE

National Oceanic and Atmospheric Administration

[RTID 0648-XF204]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's Mackerel, Squid, and Butterfish Monitoring Committee will hold two public meetings.

DATES: The first meeting will be held on Friday, November 7, 2025, from 11 a.m.-1 p.m. The second meeting will be held on Wednesday, November 12, 2025, from 9 a.m.-11 a.m. For agenda details, see SUPPLEMENTARY INFORMATION.

ADDRESSES: The meetings will be held via webinar. Connection information will be posted to the Council's calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Mackerel, Squid, and Butterfish Monitoring Committee will meet via webinar Friday, November 7, 2025, from 11 a.m. until 1 p.m. and on Wednesday, November 12, 2025, from 9 a.m. until 11 a.m. The purpose of these meetings is for the Monitoring Committee to provide advice regarding the framework adjustment action on Atlantic mackerel that would set 2026-2027 specifications/management measures and may adjust the stock's rebuilding approach.

The meeting is physically accessible to people with disabilities. Requests for sign language interpretation or other auxiliary aids should be directed to Shelley Spedden, (302) 526-5251 at least 5 days prior to the meeting date.

Authority: 16 U.S.C. 1801 et seq.

Dated: September 30, 2025.
Becky J. Curtis,
Acting Deputy Director, Office of Sustainable Fisheries, National Marine Fisheries Service.

[FR Doc. 2025-19397 Filed 10-2-25; 8:45 am]

BILLING CODE 3510-22-P